DEPARTMENT OF COMMERCE

National Oceanic and Atmospheric Administration

50 CFR Part 300

RIN 0648-XD05

Fraser River Sockeye and Pink Salmon Fisheries; Inseason Orders

AGENCY: National Marine Fisheries Service (NMFS), National Oceanic and Atmospheric Administration (NOAA), Commerce.

ACTION: Temporary orders; inseason orders; request for comments.

SUMMARY: NMFS publishes Fraser River salmon inseason orders to regulate salmon fisheries in U.S. waters. The orders were issued by the Fraser River Panel (Panel) of the Pacific Salmon Commission (Commission) and subsequently approved and issued by NMFS during the 2007 salmon fisheries within the U.S. Fraser River Panel Area. These orders established fishing dates, times, and areas for the gear types of U.S. treaty Indian and all citizen fisheries during the period the Panel exercised jurisdiction over these fisheries.

DATES: The effective dates for the inseason orders are set out in this document under the heading Inseason Orders. Comments will be accepted through November 14, 2007.

ADDRESSES: You may submit comments, identified by 0648-XD05 by any one of the following methods:

• Electronic Submissions: Submit all electronic public comments via the Federal eRulemaking Portal http://www.regulations.gov

• Fax: 206-526-6736

• Mail: NMFS NWR, 7600 Sand Point Way Ne, Seattle, WA, 98115.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Sarah McAvinchey, by phone at 206-526-4323, sarah.mcavinchey@noaa.gov

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F provide a framework for the implementation of certain regulations of the Commission and inseason orders of the Commission's Fraser River Panel for U.S. sockeye and pink salmon fisheries in the Fraser River Panel Area.

The regulations close the U.S. portion of the Fraser River Panel Area to U.S. sockeye and pink salmon fishing unless opened by Panel orders that are given effect by inseason regulations published by NMFS. During the fishing season, NMFS may issue regulations that establish fishing times and areas consistent with the Commission agreements and inseason orders of the Panel. Such orders must be consistent with domestic legal obligations and are issued by Regional Administrator, Northwest Region, NMFS. Official notification of these inseason actions is provided by two telephone hotline numbers described at 50 CFR 300.97(b)(1). The inseason orders are published in the Federal Register as soon as practicable after they are issued. Due to the frequency with which inseason orders are issued, publication of individual orders is impractical. Therefore, the 2007 orders are being published in this single document to avoid fragmentation.

Inseason Orders

The following inseason orders were adopted by the Panel and issued for U.S. fisheries by NMFS during the 2007 fishing season. Each of the following inseason actions was effective upon announcement on telephone hotline numbers as specified at 50 CFR 300.97(b)(1); those dates and times are listed herein. The times listed are local times, and the areas designated are Puget Sound Management and Catch Reporting Areas as defined in the Washington State Administrative Code at Chapter 220-22:

Order No. 2007-01: Issued 9 a.m., August 22, 2007

Treaty Indian Fisheries

Areas 4B, 5, and 6C: Open for drift gillnets for the retention of pink salmon only from 12 p.m. (noon) Thursday, August 23, 2007, to 12 p.m. Saturday August 25, 2007.

All Citizen Fisheries

Areas 7 and 7A Reef Net: Open to pink salmon fishing with non retention of sockeye from 5 a.m. to 9 p.m. on Thursday, August 23 and Friday, August 24, 2007 and 5 a.m. to 12 p.m. (noon) on Saturday August 25, 2007.

Order No. 2007-02: Issued 3 p.m., August 24, 2007

Treaty Indian Fisheries

Areas 4B, 5 and 6C: Extended for drift gillnets for pink salmon from 12 p.m. (noon), Saturday, August 25, 2007, to 12 p.m. (noon) Wednesday, August 29, 2007.

Areas 6, 7, and 7A: Open to net fishing for pink salmon from 5 a.m., Sunday, August 26, 2007, to 9 p.m. Monday, August 27, 2007, southerly and easterly of a straight line drawn from the Iwersen's Dock on Point Roberts in the State of Washington to the Georgina Point Light at the entrance to Active Pass in the Province of British Columbia.

All Citizen Fisheries

Areas 7 and 7A open to pink salmon fishing with non retention of sockeye and with the East Point line restriction in effect: That portion of area 7A that lies northerly and westerly of a straight line drawn from the low water range marker in Boundary Bay on the International Boundary through the east tip of Point Roberts in the State of Washington to the East Point light on Saturna Island in the Province of British Columbia will remain closed (East Point line closure).

Reef Net: Open 5:00 a.m. to 9:00 p.m. on Saturday, August 25, 2007, 5:00 a.m. to 9:00 p.m. Sunday August 26, 2007 and 5:00 a.m. to 9:00 p.m. Tuesday August 28, 2007.

Purse Seine: Open 5:00 a.m. to 9:00 p.m. Tuesday August 28, 2007.

Gillnet: Open 8:00 a.m. to 11: 59 p.m. Tuesday August 28, 2007.

Order No. 2007-03: Issued 11:45 a.m., August 4, 2007

Treaty Indian Fisheries

Areas 4B, 5 and 6C: Extended for drift gillnets for pink salmon from 12 p.m. (noon) Wednesday, August 29, 2007, to 12 p.m. (noon) Saturday, September 1, 2007.

Areas 6, 7, and 7A: Open to net fishing for pink salmon from 5 a.m., Thursday, August 30, 2007, to 9 p.m. Friday, August 31, 2007, southerly and easterly of a straight line drawn from the Iwersen's Dock on Point Roberts in the State of Washington to the Georgina Point Light at the entrance to Active Pass in the Province of British Columbia.

All Citizen Fisheries

Areas 7 and 7A open to pink salmon fishing with non retention of sockeye and with the East Point line restriction in effect: That portion of area 7A that lies northerly and westerly of a straight line drawn from the low water range marker in Boundary Bay on the International Boundary through the east tip of Point Roberts in the State of Washington to the East Point light on Saturna Island in the Province of British Columbia will remain closed (East Point line closure).

Reef Net: Open 5 a.m. to 9 p.m. on Wednesday, August 29, 2007.

Purse Seine: Open 5 a.m. to 9 p.m. Wednesday, August 29, 2007.

Gillnet: Open 8 a.m. to 11: 59 p.m. Wednesday, August 29, 2007.

Order No. 2007-04: Issued 2 p.m., August 31, 2007

Treaty Indian Fisheries

Areas 4B, 5 and 6C: Extended for drift gillnets for pink salmon from 12 (noon) Saturday, September 1, 2007, to 12 p.m. (noon) Wednesday, September 5, 2007.

Areas 6, 7, and 7A: Open to net fishing for pink salmon from 5 a.m. Saturday September 1, 2007, to 9 p.m. Monday, September 3, 2007, southerly and easterly of a straight line drawn from the Iwersen's Dock on Point Roberts in the State of Washington to the Georgina Point Light at the entrance to Active Pass in the Province of British Columbia.

All Citizen Fisheries

Areas 7 and 7A open to pink salmon fishing with non retention of sockeye and with the East Point line restriction in effect: That portion of area 7A that lies northerly and westerly of a straight line drawn from the low water range marker in Boundary Bay on the International Boundary through the east tip of Point Roberts in the State of Washington to the East Point light on Saturna Island in the Province of British Columbia will remain closed (East Point line closure).

Reef Net: Open 5 a.m. to 9 p.m. on Saturday September 1, 2007, 5 a.m. to 9 p.m. on Sunday September 2, 2007, and 5 a.m. to 9 p.m. on Monday September 3, 2007.

Purse Seine: Open 5 a.m. to 9 p.m. on Saturday September 1, 2007, and 5 a.m. to 9 p.m. on Sunday September 2, 2007.

Gillnet: Open 8 a.m. to 11:59 p.m. on Saturday September 1, 2007, 8 a.m. to 11:59 p.m. on Sunday September 2, 2007.

Order No. 2007-05: Issued 12 p.m., September 3, 2007.

Treaty Indian Fisheries

Areas 4B, 5 and 6C: Extended for drift gillnets for pink salmon from 12 p.m. (noon) Wednesday, September 5, 2007, to 12 (noon)Thursday September 6, 2007.

Areas 6, 7, and 7A: Open to net fishing for pink salmon from 9 p.m. Monday, September 3, 2007, to 9 p.m. Wednesday, September 5, 2007, southerly and easterly of a straight line drawn from the Iwersen's Dock on Point Roberts in the State of Washington to the Georgina Point Light at the entrance to Active Pass in the Province of British Columbia.

All Citizen Fisheries

Areas 7 and 7A open to pink salmon fishing with non retention of sockeye and with the East Point line restriction in effect: That portion of area 7A that lies northerly and westerly of a straight line drawn from the low water range marker in Boundary Bay on the International Boundary through the east tip of Point Roberts in the State of Washington to the East Point light on Saturna Island in the Province of British Columbia will remain closed (East Point line closure).

Reef Net: Open 5 a.m. to 9 p.m. on Tuesday September 4, 2007, and 5 a.m. to 9 p.m. on Wednesday September 5, 2007.

Purse Seine: Open 5 a.m. to 9 p.m. on Tuesday September 4, 2007, and 5 a.m. to 9 p.m. on Wednesday September 5, 2007.

Gillnet: Open 8 a.m. to 11:59 p.m. on Tuesday September 4, 2007 and 8 a.m. to 11:59 p.m. on Wednesday September 5, 2007.

Order No. 2007-06: Issued 3 p.m., September 5, 2007.

Treaty Indian Fisheries

Areas 4B, 5 and 6C: Extended for drift gillnets for pink salmon from 12 (noon) Thursday September 6, 2007, to 12 p.m. (noon) Saturday, September 8, 2007.

Areas 6, 7, and 7A: Open to net fishing for pink salmon from 9 p.m. Wednesday, September 5, 2007, to 9 p.m., Friday, September 7, 2007, southerly and easterly of a straight line drawn from the Iwersen's Dock on Point Roberts in the State of Washington to the Georgina Point Light at the entrance to Active Pass in the Province of British Columbia.

All Citizen Fisheries

Areas 7 and 7A open to pink salmon fishing with non retention of sockeye and with the Iwersen's Dock line restriction in effect: That portion of area 7A that lies northerly and westerly of a straight line drawn from the Iwersen's Dock on Point Roberts in the State of Washington to the Georgina Point Light at the entrance to Active Pass in the province of British Columbia (Iwersen's Dock line closure).

Reef Net: Open 5 a.m. to 9 p.m. on Thursday September 6, 2007, and 5 a.m. to 9 p.m. on Friday September 7, 2007.

Purse Seine: Open 5 a.m. to 9 p.m. on Thursday September 6, 2007, and 5 a.m. to 9 p.m. on Friday September 7, 2007.

Gillnet: Open 8 a.m. to 11:59 p.m. on Thursday September 6, 2007, and 8 a.m. to 11:59 p.m. on Friday September 7, 2007.

Order No. 2007-07: Issued 11 p.m., September 7, 2007.

The Fraser River Panel approved the following relinquishment of regulatory control in U.S. Puget Sound Panel waters:

Areas 4B, 5 and 6C: Relinquish regulatory control effective 12:01 p.m. Saturday, September, 8, 2007.

Treaty Indian Fisheries

Areas 6, 7, and 7A: Open to net fishing for pink salmon from 9 p.m., Friday, September 7, 2007, to 12 p.m. (noon), Monday, September 10, 2007, southerly and easterly of a straight line drawn from the Iwersen's Dock on Point Roberts in the State of Washington to the Georgina Point Light at the entrance to Active Pass in the Province of British Columbia.

All Citizen Fisheries

Areas 7 and 7A open to pink salmon fishing with non retention of sockeye and with the Iwersen's Dock line restriction in effect: That portion of area 7A that lies northerly and westerly of a straight line drawn from the Iwersen's Dock on Point Roberts in the State of Washington to the Georgina Point Light at the entrance to Active Pass in the province of British Columbia (Iwersen's Dock line closure).

Reef Net: Open from 5 a.m. to 9 p.m. on Saturday, September 8, from 5 a.m. to 9 p.m. on Sunday, September 9, 2007, and from 5 a.m. to 9 p.m. on Monday, September 10, 2007.

Purse Seine: Open from 5 a.m. to 9 p.m. on Monday, September 10, 2007.

Gillnet: Open from 8 a.m. to 11:59 p.m. on Monday, September 10, 2007.

Order No. 2007-08: Issued 11 a.m., September 10, 2007.

All Citizen Fisheries

Areas 7 and 7A open to pink salmon fishing with non retention of sockeye:

Reef Net: Open from 5 a.m. to 9 p.m. on Tuesday, September 11, from 5 a.m. to 9 p.m. on Wednesday September 12, 2007, from 5 a.m. to 9 p.m. on Thursday, September 13, 2007, and 5 a.m. to 9 p.m. on Friday September 14, 2007.

Order No. 2007-09: Issued 10 a.m., September 14, 2007.

All Citizen Fisheries

Areas 7 and 7A open to pink salmon fishing with non retention of sockeye:

Reef Net: Open from 5 a.m. to 9 p.m. on Friday, September 14, Saturday September 15, Sunday September 16, Monday September 17, Tuesday September 18, Wednesday September 19, and Thursday September 20, 2007.

Order No. 2007-10: Issued 10 a.m., September 19, 2007.

The Fraser River Panel approved the following relinquishment of regulatory control in U.S. Puget Sound Panel waters:

Area 7 and 7A: Relinquish regulatory control effective 12:01 a.m., Thursday, September 20, 2007.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

Moreover, such prior notice and opportunity for public comment is impracticable because not closing the fishery upon attainment of the quota would allow the quota to be exceeded and thus compromise the conservation objectives established preseason, and it does not allow fishers appropriately controlled access to the available fish at the time they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: October 24, 2007.
Emily H. Menashes,
Acting Director, Office of Sustainable Fisheries, National Marine Fisheries Service.

[FR Doc. E7-21329 Filed 10-29-07; 8:45 am]

BILLING CODE 3510-22-S